OFFICE OF PERSONNEL MANAGEMENT

Submission for Review: 3206-0237, Information and Instructions on Your Reconsideration Rights, RI 38-47

AGENCY: Office of Personnel Management.

ACTION: 30-Day notice and request for comments.

SUMMARY: The Retirement Services, Office of Personnel Management (OPM) offers the general public and other Federal agencies the opportunity to comment on a revised information collection request RI 38-47, Information and Instructions on Your Reconsideration Rights.

DATES: Comments are encouraged and will be accepted until October 9, 2020.

ADDRESSES: Interested persons are invited to submit written comments on the proposed information collection to the Office of Information and Regulatory Affairs, Office of Management and Budget, 725 17th Street NW, Washington, DC 20503, Attention: Desk Officer for the Office of Personnel Management or sent via electronic mail to: oira_submission@omb.eop.gov or faxed to (202) 395-6974.

FOR FURTHER INFORMATION CONTACT: A copy of this information collection, with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0237) was previously published in the Federal Register on March 23, 2020 at 85 FR 16393, allowing for a 60-day public comment period. The following comment was received: “(a) we recommend that OPM add a bullet stating that reconsideration of denied FEDVIP claims should be sent to the address shown in the brochure of the annuitant's plan and (b) we recommend that OPM include a telephone number for annuitants to call if they have questions about filing for reconsideration”. Our response is as follows: “The rules for the Federal Employees Dental and Vision Insurance Program (FEDVIP) and the Federal Employees Health Benefits Program (FEHBP) are different. Therefore, the RI 38-47 does not apply to the FEDVIP and the recommended comment will not be added to the form. In addition, a person who has questions about filing for reconsideration should contact the sender on the initial denial letter.” The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 38-47 outlines the procedures required to request reconsideration of an initial OPM decision about Civil Service or Federal Employees retirement, Federal or Retired Federal Employees Health Benefits requests to enroll or change enrollment or Federal Employees' Group Life Insurance coverage. This form lists the procedures and time periods required for requesting reconsideration.

Analysis

Agency: Retirement Operations, Retirement Services, Office of Personnel Management.

Title: Information and Instructions on Your Reconsideration Rights.

OMB Number: 3206-0237.

Frequency: On occasion.

Affected Public: Individual or Households.

Number of Respondents: 3,100.

Estimated Time per Respondent: 45 minutes.

Total Burden Hours: 2,325 hours.

Office of Personnel Management.
Alexys Stanley,
Regulatory Affairs Analyst.

[FR Doc. 2020-19877 Filed 9-8-20; 8:45 am]

BILLING CODE 6325-38-P